DEPARTMENT OF HEALTH AND HUMAN SERVCES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed project or to obtain a copy of the information collection plans, call the SAMHSA Reports Clearance Officer on (240) 276-1243.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project—Division of State Programs—Management Reporting Tool (DSP-MRT) (OMB No. 0930-0354)—Revision

The Substance Abuse and Mental Health Services Administration (SAMHSA)'s Center for Substance Abuse Prevention (CSAP) aims to address two of SAMHSA's top substance abuse prevention priorities: Underage drinking (UAD; age 12 to 20) and prescription drug misuse and abuse (PDM; age 12 to 25) through the Division of State Program—Monitoring and Reporting Tool. This data collection will allow all DSP programs to report into a standard tool that aligns with the Strategic Prevention Framework model. This request for data collection includes a revision from a previously approved OMB instrument formally known as Partnerships for Success-Management and Reporting Tool.

Monitoring data on SPF model will allow SAMHSA project officers to systematically collect data to monitor their grant program performance and outcomes along with grantee technical assistance needs. In addition to assessing activities related to the SPF steps, the performance monitoring instruments covered in this statement collect data to assess the following grantee required specific performance measures:

• Number of training and technical assistance activities per funded community provided by the grantee to support communities;

• Reach of training and technical assistance activities (numbers served) provided by the grantee;

• Percentage of subrecipient communities that submit data to the grantee data system;

• Number of sub-recipient communities that improved on one or more targeted NOMs indicators (Outcome);

• Number of grantees who integrate Prescription Drug Monitoring Data into their program needs assessment.

Changes to this package include the following:

• Standard language for all DSP-MRT questions;

• New disparities module to align with SAMHSA's monitoring requirements;

• Updated technical assistance section;

• Deletion of cost questions specific to funding amounts and in-kind resources;

• Deletion of advisory council and other workgroup sub-committee questions;

• Addition of Section A specific to SPF-Rx questions;

• Addition of Section B specific to PDO questions;

Annualized Data Collection Burden
Instrument | Number of respondents | Responses per respondent | Total number of responses | Hours per response | Total burden hours
Standard DSP Monitoring Tool | 117 | 4 | 468 | 3 | 1404
Section A: Rx | 25 | 2 | 63 | 1 | 42
Section B: PDO | 23 | 4 | 100 | 1 | 100
FY2020 Total | 117 |  | 631 |  | 1,546

Send comments to Summer King, SAMHSA Reports Clearance Officer at: summer.king@samhsa.hhs.gov. Written comments should be received by June 12, 2017.

Summer King,
Statistician.

[FR Doc. 2017-07334 Filed 4-11-17; 8:45 am]

BILLING CODE 4162-20-P